DEPARTMENT OF AGRICULTURE

Food and Nutrition Service

7 CFR Parts 271 and 275

[FNS-2020-0016]

RIN 0584-AE79

Provisions To Improve the Supplemental Nutrition Assistance Program's Quality Control System

AGENCY: Food and Nutrition Service (FNS), USDA.

ACTION: Proposed rule; reopening of comment period.

SUMMARY: The U.S. Department of Agriculture proposed to make changes to the Supplemental Nutrition Assistance Program's Quality Control (SNAP QC) system to strengthen and improve the integrity and accuracy of the system and to better align SNAP QC with requirements in the Payment Integrity Information Act of 2019 (PIIA). When published, the proposed rule included an incorrect email address for comments; the reopening of the comment period is intended to allow additional time for the public to submit comments in the event the original comment submission was returned as undeliverable due to the incorrect email address.

DATES: The comment period for the proposed rule published September 19, 2023, at 88 FR 64756, is reopened. Written comments must be received on or before January 2, 2024 to ensure their consideration.

ADDRESSES: The Food and Nutrition Service, USDA, invites interested persons to submit written comments on this proposed rule. Comments may be submitted in writing by one of the following methods:

—Federal eRulemaking Portal: Go to https://www.regulations.gov. Follow the online instructions for submitting comments.

—Mail: Send comments to John McCleskey, Branch Chief, Quality Control Branch, Program Accountability and Administration Division; Food and Nutrition Service, 1320 Braddock Place, 5th Floor, Alexandria, Virginia 22314.

—E-Mail: Send comments to SM.FN.SNAPQCReform@usda.gov. Include Docket ID Number FNS-2020-0016, “Provisions to Improve the SNAP QC System” in the subject line of the message.

—All written comments submitted in response to this proposed rule will be included in the record and will be made available to the public. Please be advised that the substance of the comments and the identity of the individuals or entities submitting the comments will be subject to public disclosure. FNS will make the written comments publicly available on the internet via https://www.regulations.gov.

FOR FURTHER INFORMATION CONTACT: John McCleskey, 703-457-7747, Food and Nutrition Service, 1320 Braddock Place, 5th Floor, Alexandria, Virginia 22314, SM.FN.SNAPQCReform@usda.gov.

SUPPLEMENTARY INFORMATION: In a notice of proposed rulemaking, published on September 19, 2023 (88 FR 64756), the email address provided in the addresses section of the rule was incorrect, resulting in comments submitted via email being returned as undeliverable. While the other avenues for comment submission were unaffected, USDA is correcting the email address and allowing the public additional time to submit comments. Commenters who do not see their comment reflected on www.regulations.gov from the original comment period are encouraged to resubmit their comments. All regulatory provisions in the September 19, 2023, proposed rule remain unchanged. This document notifies the public the Department is reopening the comment period until January 2, 2024.

Cynthia Long,
Administrator, Food and Nutrition Service.

[FR Doc. 2023-27821 Filed 12-18-23; 8:45 am]

BILLING CODE 3410-30-P